DEPARTMENT OF AGRICULTURE

Cooperative State Research, Education, and Extension Service

Small Business Innovation Research Grants Program for Fiscal Year 2001; Request for Proposals and Request for Input

AGENCY: Cooperative State Research, Education, and Extension Service, USDA.

ACTION: Notice of Availability of Program Solicitation and Request for Proposals for Fiscal Year 2001 Small Business Innovation Research Grants Program and Request for Input.

SUMMARY: Notice is hereby given that under the authority of the Small Business Innovation Development Act of 1982, as amended (15 U.S.C. 638) and section 630 of the Act making appropriations for Agriculture, Rural Development, and Related Agencies programs for the fiscal year ending September 30, 1987, and for other purposes, as made applicable by section 101(a) of Public Law Number 99-591, 100 Stat. 3341, the U.S. Department of Agriculture (USDA) expects to award project grants for certain areas of research to science-based small business firms through phase I of its Small Business Innovation Research (SBIR) Grants Program.

By this notice, the Cooperative State Research, Education, and Extension Service (CSREES) additionally solicits stakeholder input from any interested party regarding the Fiscal Year 2001 SBIR Grants Program Request for Proposals for use in the development of the next request for proposals for this program.

DATES: All phase I proposals must be received at USDA on or before August 31, 2000. Proposals not received on or before this date will not be considered for funding.

ADDRESSES: All proposals must be submitted to the following address: Small Business Innovation Research Program; c/o Proposal Services Unit; Cooperative State Research, Education, and Extension Service; U.S. Department of Agriculture; STOP 2245; 1400 Independence Avenue, SW.; Washington, DC 20250-2245.

Note: The address for hand-delivered proposals or proposals submitted using an express mail or overnight courier service is: Small Business Innovation Research Program; c/o Proposal Services Unit; Cooperative State Research, Education, and Extension Service; U.S. Department of Agriculture; Room 303, Aerospace Center; 901 D Street, SW.; Washington, D.C. 20024. Telephone: (202) 401-5048.

Written user input comments should be submitted by mail to: Office of Extramural Programs; Competitive Research Grants and Awards Management; USDA-CSREES; Stop 2299; 1400 Independence Avenue, SW.; Washington, DC 20250-2299; or via e-mail to: RFP-OEP@reeusda.gov. In your comments, please include the name of the program and the fiscal year of the request for proposals to which you are responding.

FOR FURTHER INFORMATION CONTACT: Dr. Charles F. Cleland; Director, SBIR Program; Cooperative State Research, Education, and Extension Service; STOP 2243; 1400 Independence Avenue, SW.; Washington, DC 20250-2243. Telephone: (202) 401-4002. Facsimile: (202) 401-6070.

SUPPLEMENTARY INFORMATION: This program will be administered by the Cooperative State Research, Education, and Extension Service. Firms with strong scientific research capabilities in the topic areas listed below are encouraged to participate. Objectives of the three-phase program include stimulating technological innovation in the private sector, strengthening the role of small businesses in meeting Federal research and development needs, increasing private sector commercialization of innovations derived from USDA-supported research and development efforts, and fostering and encouraging participation of women-owned and socially and economically disadvantaged small business concerns in technological innovation.

The total amount expected to be available for phase I of the SBIR Program in fiscal year (FY) 2001 is approximately $5,500,000. The solicitation is being announced to allow adequate time for potential recipients to prepare and submit applications by the closing date of August 31, 2000. The research to be supported is in the following topic areas:

1. Forests and Related Resources.

2. Plant Production and Protection.

3. Animal Production and Protection.

4. Air, Water and Soils.

5. Food Science and Nutrition.

6. Rural and Community Development.

7. Aquaculture.

8. Industrial Applications.

9. Marketing and Trade.

The award of any grants under the provisions of this program is subject to the availability of appropriations.

This program is subject to the provisions found at 7 CFR part 3403. These provisions set forth procedures to be followed when submitting grant proposals, rules governing the evaluation of proposals and the awarding of grants, and regulations relating to the post-award administration of grant projects. In addition, USDA Uniform Federal Assistance Regulations (7 CFR part 3015), Governmentwide Debarment and Suspension (Non-procurement) and Governmentwide Requirements for Drug-Free Workplace (Grants) regulations (7 CFR part 3017), Restrictions on Lobbying regulations (7 CFR part 3018), and Debt Management regulations (7 CFR part 3) apply to this program. Copies of 7 CFR parts 3403, 3015, 3017, 3018, and 3 may be obtained by writing or calling the office indicated below.

The program solicitation, which contains research topic descriptions and detailed instructions on how to apply, may be obtained by writing or calling the following office: Proposal Services Unit; Cooperative State Research, Education, and Extension Service; U.S. Department of Agriculture; STOP 2245; 1400 Independence Avenue, SW.; Washington, DC 20250-2245. Telephone: (202) 401-5048. Application materials also may be requested via Internet by sending a message with your name, mailing address (not e-mail) and telephone number to psb@reeusda.gov which states that you wish to receive a copy of the application materials for the FY 2001 Small Business Innovation Research Grants Program. The materials will then be mailed to you (not e-mailed) as quickly as possible. Please note that applicants who submitted SBIR proposals for FY 2000 or who have recently requested placement on the list for FY 2001 will automatically receive a copy of the FY 2001 program solicitation.

Stakeholder Input

CSREES is soliciting comments regarding this solicitation of applications from any interested party. These comments will be considered in the development of the next request for proposals for the program. Such comments will be forwarded to the Secretary or his designee for use in meeting the requirements of section 103(c)(2) of the Agricultural Research, Extension, and Education Reform Act of 1998 (7 U.S.C. 7613(c)(2)). Written comments should be submitted by mail to: Policy and Program Liaison Staff; Office of Extramural Programs; USDA-CSREES; STOP 2299; 1400 Independence Avenue, S.W.; Washington, D.C. 20250-2299; or via e-mail to: RFP-OEP@reeusda.gov. (This e-mail address is intended only for receiving stakeholder input comments regarding this RFP, and not for requesting information or forms.)

In your comments, please indicate that you are responding to the FY 2001 Small Business Innovation Research Grants Program. Comments are requested within six months from the issuance of the solicitation of applications. Comments received after that date will be considered to the extent practicable.

Done at Washington, DC, this 30th day of May, 2000.
Charles W. Laughlin,
Administrator, Cooperative State Research, Education, and Extension Service.

[FR Doc. 00-14237 Filed 6-6-00; 8:45 am]

BILLING CODE 3410-22-P